THE PRESIDENT'S CRITICAL INFRASTRUCTURE PROTECTION BOARD

National Strategy To Secure Cyberspace

November 14, 2002.

AGENCY: President's Critical Infrastructure Protection Board, Executive Office of the President, The White House.

ACTION: Notice of request for ongoing public comment regarding the National Strategy to Secure Cyberspace for comment, notwithstanding the public comment deadline of September 18, 2002.

SUMMARY: Pursuant to the President's charge in Executive Order 12321, the President's Critical Infrastructure Protection Board (the “Board”) has been engaged in development of the National Strategy to Secure Cyberspace. On September 18, 2002, the Board released to the public a draft of the Strategy “For Comment” (the “Strategy”). The Strategy was made available online at http:/www.securecyberspace.gov for viewing and downloading. At the time of the release of the Strategy, the Board invited public comments and set a deadline of November 18, 2002 for such comments. On Oct 11, 2002, through a Federal Register Notice, the Board issued a formal public notice soliciting further comments and views from the public on the Strategy, and reiterated the public comment deadline of November 18, 2002. It was noted from the first that—due to the fact that cyberspace security operates in a dynamic landscape where the nature of the threats, solutions, technology, applications and other factors are subject to rapid and sometimes dramatic change “America's cyberstrategy must be dynamic and continually refreshed to adapt to the changing environment.” Thus, because the development of the National Strategy to Secure Cyberspace is an ongoing, iterative process, the Board has indicated all along that the Strategy will be a dynamic, evolutionary document, one that will include a formal official release and subsequent, periodic updated versions. As a result, the public dialogue will continue to be interactive, and additional public comments will be welcome and considered first not only following the November 18, 2002 date, but also after the release of the first official version of the Strategy. Comments will be considered in a timely manner and, as appropriate, will be reflected into the evolving Strategy at the earliest possible date. There is no guarantee, however, that comments submitted after the November 18, 2002 deadline will be considered for the current draft of the strategy. Comments not considered for this draft may be reflected in subsequent drafts.

DATES: Comments are invited on an ongoing basis.

ADDRESSES: Comments may be submitted electronically as provided at http://www.securecyberspace.gov. In addition, written comments may be sent to: PCIPB/ Strategy Public Comment; The White House; Washington, DC 20502. Individual hard copies of the draft Strategy may be obtained by calling 202-456-5420.

FOR FURTHER INFORMATION CONTACT: Tommy Cabe 202-456-5420.

SUPPLEMENTARY INFORMATION: On October 16, 2001, the President created the Board by Executive Order 12321. The President noted that “[t]he information technology revolution has changed the way business is transacted, government operates, and national defense is conducted. Those three functions now depend on an interdependent network of critical information infrastructures.” In the Executive Order, the President directed the Board to “recommend policies and coordinate programs for protecting information systems for critical infrastructure,” and called for the Board to “coordinate outreach to and consultation with the private sector, * * * State and local governments, [and] communities and representatives from academia and other relevant elements of society.”

Pursuant to the President's charge, the Board has been engaged in development of the National Strategy to Secure Cyberspace. On September 18, 2002, the Board released to the public a draft Strategy “For Comment,” identifying 24 strategic goals and listing over 80 recommendations. The Strategy was made available online at http://www.securecyberspace.gov for viewing and downloading.

The Strategy was developed based on input from a broad spectrum of individuals and groups that represent the owners and operators of cyberspace, as well as from the key sectors that rely on cyberspace, including Federal departments and agencies, private companies, State and local governments, educational institutions, nongovernmental organizations, and the general public. Town hall meetings to facilitate discussion and stimulate input were held during the spring in Denver, Chicago, Portland Oregon, and Atlanta and this month in Philadelphia. In addition, a list of 53 key questions was compiled, published, and publicized to spark public debate and facilitate informed input. The Board has convened additional town hall meetings around the country in recent weeks to raise awareness about cybersecurity issues, and to solicit and receive the views and input of concerned citizens regarding the Strategy. Town hall meetings were held in Boston, MA (October 14), Pittsburgh, PA (October 24), and New York, NY (November 7), and will be held in Phoenix, AZ (November 14). For further information about specific town hall meetings, see http://www.securecyberspace.gov.

At the time of the release of the Strategy and in a subsequent Federal Register notice, the Board invited public comments and set a deadline of November 18, 2002 for such comments. While the official comment period will end on November 18th, because the development of the Strategy is an iterative, ongoing process that will include a formal release and subsequent updates, this notice invites additional input because of a recognition that such input will be invaluable for making the strategy even more effective. This reflects recognition of the importance of an ongoing exchange of views, discussion, and input regarding the cyber strategy and the issues it addresses. At a minimum the Strategy must continue to evolve to address changing technologies and to respond appropriately as we better understand the effectiveness of the measures taken and other lessons learned.

By this Notice, the Board solicits further comments and views from the public on the draft Strategy and the first and subsequent official releases of the Strategy, notwithstanding the November 18, 2002 deadline. The Board will consider all comments and, as appropriate, reflect those comments as appropriate into the initial or subsequent versions of the official Strategy. There is no guarantee, however, that comments submitted after the November 18, 2002 deadline will be considered for the current draft of the strategy. Comments not considered for this draft will be reflected in subsequent drafts.

The most efficient way to provide public comment is to do so online through the feedback link at http://www.securecyberspace.gov. In order to facilitate review and consideration of public comment, commenters are requested to use this electronic feedback link if at all possible. Comments will also be accepted if mailed to the postal address listed below, but it is requested that such commenters also provide an electronic version of their comments as well as the hard copy (e.g., CD or floppy disc) if possible. In addition, it is requested that all commenters, including those submitting their comments in hard copy form rather than online, make every effort to organize the comments by reference to specific sections of the Strategy and if applicable) the numbered recommendation or discussion topic commented upon.

Those preferring to submit their comments by hard copy (preferably with an accompanying electronic version of the comment) should send them to: PCIPB/ Strategy Public Comment; The White House; Washington, DC 20502. The Board will consider all relevant comments in the further development of the Strategy. However, there are no plans to respond individually to each comment.

Dated: November 14, 2002.
Richard A. Clarke,
Chair, President's Critical Infrastructure Protection Board.

[FR Doc. 02-29394 Filed 11-18-02; 8:45 am]

BILLING CODE 3165-D3-P